NUCLEAR REGULATORY COMMISSION

[NRC-2009-0337]

Florida Power & Light Company; Notice of Receipt and Availability of Application for a Combined License

On June 30, 2009, Florida Power & Light Company (FPL or the applicant) filed with the Nuclear Regulatory Commission (NRC, the Commission) pursuant to section 103 of the Atomic Energy Act and Title 10 of the Code of Federal Regulations (10 CFR) part 52, “Licenses, Certifications, and Approvals for Nuclear Power Plants,” an application for a combined license (COL) for two AP1000 advanced passive pressurized water reactor nuclear power plants at the Turkey Point facility near the town of Homestead in Miami-Dade County, Florida. The reactors are to be identified as Turkey Point Units 6 and 7.

An applicant may seek a COL in accordance with subpart C of 10 CFR part 52. The information submitted by the applicant includes certain administrative information such as financial qualifications submitted pursuant to 10 CFR 52.77, as well as technical information submitted pursuant to 10 CFR 52.79. The applicant requested exemptions from certain requirements of section IV.A.2. of Appendix D to 10 CFR part 52 and 10 CFR 52.79(a)(36)(iii) and 10 CFR 52.80(d), as described in part 7 of the application. Also, FPL requested a Limited Work Authorization under 10 CFR 50.10(d) in advance of the COL to allow the early performance of certain construction activities. Subsequent Federal Register notices will address the acceptability of the tendered COL application for docketing and provisions for participation of the public in the COL review process.

A copy of the application is available for public inspection at the Commission's Public Document Room (PDR), located at One White Flint North, Public File Area O1 F21, 11555 Rockville Pike (first floor), Rockville, Maryland, and via the Agencywide Documents Access and Management System (ADAMS) Public Electronic Reading Room on the Internet at the NRC Web site http://www.nrc.gov/reading-rm/adams.html. The accession number for the cover letter of the application is ML091830589. The complete application is available at http://www.nrc.gov/reactors/new-reactors/col/turkey-point.html. Future publicly available documents related to the application will also be posted in ADAMS. Persons who do not have access to ADAMS, or who encounter problems in accessing the documents located in ADAMS, should contact the NRC Public Document Room staff by telephone at 1-800-397-4209 or 301-415-4737, or by e-mail to pdr@nrc.gov.

Dated at Rockville, Maryland, this 23rd day of July 2009.
For the Nuclear Regulatory Commission.
Amy M. Snyder,
Senior Project Manager, AP 1000 Projects Branch 1, Division of New Reactor Licensing, Office of New Reactors.

[FR Doc. E9-18486 Filed 7-31-09; 8:45 am]

BILLING CODE 7590-01-P